DEPARTMENT OF HOMELAND SECURITY

Federal Emergency Management Agency

[Docket ID: FEMA-FEMA-2020-0009; OMB No. 1660-0114]

Agency Information Collection Activities: Submission for OMB Review; Comment Request; FEMA Preparedness Grants: Port Security Grant Program

AGENCY: Federal Emergency Management Agency, DHS.

ACTION: 30 Day notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before June 15, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Duane Davis, Section Chief, FEMA, Grant Programs Directorate, 202-680-4060, duane.davis@fema.dhs.gov. You may contact the Records Management Division for copies of the proposed collection of information at email address: FEMA-Information-Collections-Management@fema.dhs.gov.

SUPPLEMENTARY INFORMATION: Section 102 of the Maritime Transportation Security Act of 2002, as amended (46 U.S.C. 70107), established the Port Security Grant System (PSGP) to provide for the establishment of a grant program for a risk-based allocation of funds to implement Area Maritime Transportation Security Plans and facility security plans among port authorities, facility operators, and State and local government agencies required to provide port security services. Before awarding a grant under the program, the Secretary shall provide for review and comment by the appropriate Federal Maritime Security Coordinators and the Maritime Administrator. In administering the grant program, the Secretary shall take into account national economic and strategic defense concerns based upon the most current risk assessments available. In addition, any information collected by FEMA for this program is in accordance with 46 U.S.C. 70107(g), as amended by section 112(c) of the Security and Accountability For Every (SAFE) Port Act of 2006 (Pub. L. 109-347), which states: “Any entity subject to an Area Maritime Transportation Security Plan may submit an application for a grant under this section, at such time, in such form, and containing such information and assurances as the Secretary may require.” This proposed information collection was previously published in the Federal Register on February 11, 2020, at 85 FR 7779 with a 60 day public comment period. FEMA received one (1) unrelated comment. The purpose of this notice is to notify the public that FEMA will submit the information collection abstracted below to the Office of Management and Budget for review and clearance.

Collection of Information

Title: FEMA Preparedness Grants: Port Security Grant Program (PSGP).

Type of Information Collection: Revision of a currently approved information collection.

OMB Number: 1660-0114.

Form Titles and Numbers: FEMA Form 089-5, PSGP Investment Justification.

Abstract: The previous version of FEMA Form 089-5 presented numerous editing and submission challenges for applicants, often leaving required information blank within the form. Additionally, numerous applicants annually fail to provide required content information within a detailed budget worksheet or provide no detailed budget worksheet at all. A detailed budget worksheet is required; however it is not currently in a required template. This update changes the format and software of Form 089-5 and incorporates the detailed budget worksheet to help ensure accurate project accounting. By broadening the form to include all required project information, applicants will have fewer documents to track and submit; and subsequent agency reviews will be streamlined and improve consistency among application format.

Affected Public: State, local and Tribal Governments; businesses or other for-profits and non-profits.

Estimated Number of Respondents: 893.

Estimated Number of Responses: 1,759.

Estimated Total Annual Burden Hours: 17,450 hours.

Estimated Total Annual Respondent Cost: $1,430,377.

Estimated Respondents' Operation and Maintenance Costs: 0.

Estimated Respondents' Capital and Start-Up Costs: 0.

Estimated Respondents' Operation and Maintenance Costs: 0.

Estimated Respondents' Capital and Start-Up Costs: 0.

Estimated Total Annual Cost to the Federal Government: $1,055,219.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, such as permitting electronic submission of responses.

Maile Arthur,
Acting Records Management Branch Chief, Office of the Chief Administrative Officer, Mission Support, Federal Emergency Management Agency, Department of Homeland Security.

[FR Doc. 2020-10379 Filed 5-13-20; 8:45 am]

BILLING CODE 9111-27-P